DEPARTMENT OF LABOR

Employment and Training Administration

Agency Information Collection Activities; Comment Request; O*NET Data Collection Program

ACTION: Notice.

SUMMARY: The Department of Labor's (DOL) Employment and Training Administration (ETA) is soliciting comments concerning a revision to a previously approved information collection request (ICR) titled “O*NET Data Collection Program.” This comment request is part of continuing Departmental efforts to reduce paperwork and respondent burden in accordance with the Paperwork Reduction Act of 1995 (PRA).

DATES: Consideration will be given to all written comments received by September 29, 2023.

ADDRESSES: A copy of this ICR with applicable supporting documentation, including a description of the likely respondents, proposed frequency of response, and estimated total burden, may be obtained free by contacting Lauren Fairley by telephone at (202) 693-3731 (this is not a toll-free number), TTY 1-877-889-5627 (this is not a toll-free number), or by email at fairley.lauren@dol.gov or by accessing http://www.onetcenter.org/ombclearance.html.

Submit written comments about, or requests for a copy of, this ICR by mail or courier to the U.S. Department of Labor, Employment and Training Administration—Division of National Programs Tools and Technical Assistance, 200 Constitution Avenue NW, C4526, Washington, DC 20210; by email: fairley.lauren@dol.gov; or by fax (202) 693-3015.

FOR FURTHER INFORMATION CONTACT: Lauren Fairley by telephone at (202) 693-3731 (this is not a toll-free number) or by email at fairley.lauren@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed. The O*NET Data Collection Program ICR 1205-0421 received OMB Clearance on November 22, 2021.

This revision to the previously-approved ICR proposes to collect updated occupational characteristics and requirements information on an ongoing basis. Under this proposal, both selected sample sizes of business establishments and use of the Occupation Expert Methodology have been increased to offset declining response rates and the potentially lasting impacts of COVID-19 on business eligibility (see Section 15).

Selected respondents will be offered varying incentive amounts to assess the impact for reducing the potential for nonresponse bias, increasing response rates, and minimizing follow-up data collection efforts; and contacted Occupation Expert source organizations will be presented with the opportunity of a recognition program for their participation (Section 9).

Informational materials have been condensed to reduce redundancy and burden (Appendix F).

Appendix G in this ICR package differs from the 2021 Appendix G submission: the look and format of the questionnaires have been modernized to reflect current best practices for surveys, including standardization of similar background questions between the Establishment and Occupation Expert questionnaires; and updating the instructions and questions for level items to add additional clarity.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control No. 1205-0421.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: O*NET Data Collection Program.

Form: N/A.

OMB Control Number: 1205-0421.

Affected Public: Private sector (for-profit businesses and not-for-profit organizations); State, local and tribal governments, Federal government, Individuals or Households.

Estimated Number of Respondents: 42,415.

Frequency: Varies.

Total Estimated Annual Responses: 42,415

Estimated Average Time per Response: Varies.

Estimated Total Annual Burden Hours: 15,150270 hours.

Total Estimated Annual Other Cost Burden: $0.

Brent Parton,
Acting Assistant Secretary for Employment and Training, Labor.

[FR Doc. 2023-16130 Filed 7-28-23; 8:45 am]

BILLING CODE 4510-FN-P